AGENCY FOR INTERNATIONAL DEVELOPMENT

22 CFR Part 215

RIN 0412-AA61

Privacy Act of 1974, Implementation of Exemptions

AGENCY: United States Agency for International Development.

ACTION: Final rule; delay effective date.

SUMMARY: This document delays the effective date by 90 days for the final rule exempting portions of the Partner Vetting System from one or more provisions of the Privacy Act, as published in the Federal Register on January 2, 2009 and delayed on February 2, 2009, and on April 2, 2009.

DATES: The effective date for the final rule published on January 2, 2009 (74 FR 9) and delayed on February 2, 2009 (74 FR 5808), and on April 2, 2009 (74 FR 14931) is further delayed until August 4, 2009.

FOR FURTHER INFORMATION CONTACT: For general questions, please contact Jeff Denale, Chief, Counterterrorism and Information Security Division, Office of Security, United States Agency for International Development, Ronald Reagan Building, 1300 Pennsylvania Avenue, NW., Washington, DC 20523, or by phone on (202) 712-1264.

Dated: May 4, 2009.
Mark Webb,
Acting Director, Office of Security.

[FR Doc. E9-10531 Filed 5-4-09; 11:15 am]

BILLING CODE P